FEDERAL COMMUNICATIONS COMMISSION

[OMB 3060-XXXX; FR ID 196425]

Information Collection Being Reviewed by the Federal Communications Commission

AGENCY: Federal Communications Commission.

ACTION: Notice and request for comments.

SUMMARY: As part of its continuing effort to reduce paperwork burdens, and as required by the Paperwork Reduction Act (PRA) of 1995, the Federal Communications Commission (FCC or the Commission) invites the general public and other Federal agencies to take this opportunity to comment on the following information collection. Comments are requested concerning: whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information collection burden on small business concerns with fewer than 25 employees.

DATES: Written PRA comments should be submitted on or before March 18, 2024. If you anticipate that you will be submitting comments, but find it difficult to do so within the period of time allowed by this notice, you should advise the contact listed below as soon as possible.

ADDRESSES: Direct all PRA comments to Nicole Ongele, FCC, via email PRA@fcc.gov and to nicole.ongele@fcc.gov.

FOR FURTHER INFORMATION CONTACT: For additional information about the information collection, contact Nicole Ongele, (202) 418-2991.

SUPPLEMENTARY INFORMATION: The FCC may not conduct or sponsor a collection of information unless it displays a currently valid control number. No person shall be subject to any penalty for failing to comply with a collection of information subject to the PRA that does not display a valid Office of Management and Budget (OMB) control number.

OMB Control Number: 3060-XXXX.

Title: Safe Connections Act—Supporting Survivors of Domestic and Sexual Violence, WC.

Docket No.: 22-238, et al.

Form Number: N/A.

Type of Review: New collection.

Respondents: Business or other for-profit entities and individuals or households.

Number of Respondents and Responses: 1,650,000 respondents; 1,650,000 responses.

Estimated Time per Response: 1 hour-240 hours.

Frequency of Response: On occasion reporting requirement; third party disclosure requirement.

Obligation to Respond: Required to obtain or retain benefits. Statutory authority for these collections is contained in 47 U.S.C. 345 of the Communications Act of 1934.

Total Annual Burden: 3,527,500 hours.

Total Annual Cost: No Cost.

Needs and Uses: The Safe Connections Act of 2022 (SCA) obligates the Commission to implement rules pursuant to Section 4 of the SCA, which sets forth the requirement that covered providers separate the mobile phone telephone lines of domestic violence survivors (and of those persons in their care) from a shared mobile service contract with an abuser within two business days of a request. To implement the line separation process, the Commission establishes this collection, which requires covered providers to notify consumers about the availability of the line separation process and requires survivors to submit certain information to covered providers to request a line separation.

Federal Communications Commission.
Marlene Dortch,
Secretary, Office of the Secretary.

[FR Doc. 2024-00709 Filed 1-16-24; 8:45 am]

BILLING CODE 6712-01-P